SMALL BUSINESS ADMINISTRATION

[Disaster Declaration #14925 and #14926]

Florida Disaster Number FL-00121

AGENCY: U.S. Small Business Administration.

ACTION: Amendment 3.

SUMMARY: This is an amendment of the Presidential declaration of a major disaster for the State of Florida (FEMA-4283-DR), dated 10/17/2016.

Incident: Hurricane Matthew.

Incident Period: 10/03/2016 through 10/19/2016.

Effective Date: 10/25/2016.

Physical Loan Application Deadline Date: 12/16/2016.

EIDL Loan Application Deadline Date: 07/17/2017.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for the State of Florida, dated 10/17/2016 is hereby amended to establish the incident period for this disaster as beginning 10/03/2016 and continuing through 10/19/2016.

All other information in the original declaration remains unchanged.

(Catalog of Federal Domestic Assistance Number 59008)

Lisa Lopez-Suarez,
Acting Associate Administrator for Disaster Assistance.

[FR Doc. 2016-26648 Filed 11-3-16; 8:45 am]

BILLING CODE 8025-01-P